NATIONAL CREDIT UNION ADMINISTRATION

Sunshine Act; Notice of Agency Meeting

Time and Date: 10 a.m., Thursday, April 17, 2008.

Place: Board Room, 7th Floor, Room 7047, 1775 Duke Street, Alexandria, VA 22314-3428.

Status: Open.

Matters To Be Considered: 1. Quarterly Insurance Fund Report.

2. Notice of Proposed Rulemaking: Parts 701 and 705 of NCUA's Rules and Regulations, The Low-Income Definition.

3. Notice of Proposed Rulemaking: Part 740 of NCUA's Rules and Regulations, The Official Advertising Statement.

4. Proposed Rule: Part 792 of NCUA's Rules and Regulations, Revisions for the Freedom of Information Act and Privacy Act Regulations.

5. Proposed Rule: Parts 712 and 741 of NCUA's Rules and Regulations, Credit Union Service Organizations.

Recess: 11:15 a.m.

Time and Date: 11:30 a.m., Thursday, April 17, 2008.

Place: Board Room, 7th Floor, Room 7047, 1775 Duke Street, Alexandria, VA 22314-3428.

Status: Closed.

Matters To Be Considered: 1. One (1) Insurance Appeal. Closed pursuant to Exemption (6).

2. Request for Review under Sections 747.306 and 747.308 of NCUA's Rules and Regulations. Closed pursuant to Exemptions (6) and (8).

3. One (1) Merger Application under Section 205 of the Federal Credit Union Act. Closed pursuant to Exemption (8).

4. One (1) Administrative Action under Section 208 of the Federal Credit Union Act. Closed pursuant to Exemptions (8), (9)(A)(ii), and (B).

FOR FURTHER INFORMATION CONTACT: Mary Rupp, Secretary of the Board, Telephone: 703-518-6304.

Mary Rupp,
Secretary of the Board.

[FR Doc. E8-8035 Filed 4-14-08; 8:45 am]

BILLING CODE 7535-01-M